FEDERAL TRADE COMMISSION

Granting of Request for Early Termination of the Waiting Period Under the Premerger Notification Rules

Section 7A of the Clayton Act, 15 U.S.C. § 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transactions Granted Early Termination 08/21/2000-09/01/2000
Transaction No. | Acquiring | Acquired | Entities
Transactions Granted Early Termination-08/21/2000
20004248 | E-T-T, Inc | Jackpot Enterprises, Inc | Cardivan Company/Corral Coin Inc.
|  |  | Corral Country Coin, Inc.
20004282 | ABS Capital Partners III, L.P | @Road, Inc | @Road, Inc.
20004321 | Pfizer Inc | Virbac S.A | Virbac S.A.
20004346 | BASF Aktiengesellschaft | Takeda Chemical Industries, Ltd | Takeda Vitamin & Food USA, Inc.
20004348 | Skanska AB | Barclay White, Inc | Barclay White, Inc.
20004379 | Mary Alice Taylor | Webvan Group, Inc | Webvan Group, Inc.
20004383 | Silgan Holdings Inc | OCM Opportunities Fund, L.P | RXI Holdings, Inc.
20004384 | Aon Corporation | divine interVentures, Inc | divine interVentures, Inc.
20004385 | Apollo Investment Fund IV, L.P | Royal Dutch Petroleum Company | Shell Epoxy Resins Inc.
20004387 | Broadcom Corporation | Altima Communications, Inc | Altima Communications, Inc.
20004394 | Cisco Systems, Inc | Komodo Technology, Inc | Komodo Technology, Inc.
20004395 | Partek Oyj Abp | Terex Corporation | Terex Corporation.
20004396 | UtiliCorp United Inc | The Empire District Electric Company | The Empire District Electric Company.
20004400 | The TriZetto Group, Inc | IMS Health Incorporated | ERISCO Managed Care Technologies, Inc.
20004401 | IMS Health Incorporated | The TriZetto Group, Inc | The TriZetto Group, Inc.
20004402 | Marshall W. Pagon | SRT Communications, Inc | Souris River Television, Inc.
|  |  | SRT Communications, Inc.
20004403 | Linc. net, Inc | InterCon Construction, Inc | InterCon Construction, Inc.
20004404 | Metacreations Corporation | Computer Associates International, Inc | Viewpoint Digital, Inc.
20004405 | Robert J. McGovern | Tribune Company | Career Holdings, Inc.
20004406 | Robert J. McGovern | Knight-Ridder, Inc | Career Holding, Inc.
20004409 | Health Management Associates, Inc | Charterhouse Equity Partners II, L.P | NetCare Health Systems, Inc.
20004410 | ABRY Broadcast Partners II, L.P | Walter E. Hussman Jr. Family Trust | KTAL-TV, Inc.
20004414 | Rural Cellular Corporation | Saco River Telegraph and Telephone Company | Saco River Telegraph and Telephone Company.
20004419 | Brockway Moran & Partners Fund, L.P | DCS Holdings, Inc | Dynamic Cooking Systems, Inc.
20004420 | Lucent Technologies, Inc | Spring Tide Networks, Inc | Spring Tide Networks, Inc.
20004426 | Safeguard Scientifics, Inc | Kanbay International, Inc | Kanbay International, Inc.
20004430 | Wind Point Partners IV, L.P | Twitchell Holding Corporation | Twitchell Holding Corporation.
20004432 | UBS AG, a Swiss Banking Corporation | Xelus, Inc | Xelus, Inc.
20004435 | TCV IV, L.P | Microsoft Corporation | Expedia, Inc.
20004436 | Arthur J. Gallagher & Co | John P. & Barbara A. Woods | John P. Woods Co., Inc.
20004437 | John P. & Barabara A. Woods | Arthur J. Gallagher & Co | Arthur J. Gallagher & Co.
20004438 | Berkshire Fund V, Limited Partnership | U.S. Can Corporation | U.S. Can Corporation.
20004441 | The SK Equity Fund, L.P | Roundhouse, Inc | Roundhouse, Inc.
20004442 | VNU N.V | United News & Media plc | MFI Holdings, Inc.
20004443 | Internet Capital Group, Inc | Robert K. Kraft | PaperExchange.com, Inc.
20004444 | Robert K. Kraft | Internet Capital Group, Inc | Internet Capital Group, Inc.
20004446 | Long Point Capital Fund, L.P | FCP Investors V, L.P | Colibri Holding Corporation.
20004447 | John Wood Group, PLC | Mustang Engineering, Inc | Mustang Engineering, Inc.
20004483 | Hattiesburg Clinic Professional Association | PhyCor, Inc | PhyCor of Hattiesburg, Inc.
Transactions Granted Early Termination—08/22/2000
20004416 | Alaska Power & Telephone Company | Bell Atlantic Corporation | GTE Alaska Incorporated d/b/a Verizon Alaska.
20004448 | Kenneth R. Thomson | WebCT, Inc | WebCT, Inc.
20004460 | ENEL S.p.A | Echelon Corporation | Echelon Corporation.
20004467 | Zoho Holding Corporation | Starwood Hotels & Resorts Worldwide, Inc | Starwood Hotels & Resorts Worldwide, Inc.
20004468 | Starwood Hotels & Resorts Worldwide, Inc | Zoho Holding Corporation | Zoho Holding Corporation.
20004484 | TPG Partners II, L.P | DoveBid, Inc | DoveBid, Inc.
20004494 | ITXC Corp | eFusion, Inc | eFusion, Inc.
Transactions Granted Early Termination—08/23/2000
20004242 | Summit Capital II, L.P | Switch & Data Facilities Company, Inc | Switch & Data Facilities Comopany, Inc.
20004431 | Eaton Corporation | Patrick P. Lee | Air-Dro Cylinders, Inc.
|  |  | Hydro-Line, Inc.
20004449 | Conso International Corporation | Charles S. Meyer | Lending Textile Co., Inc.
|  |  | Wm. E. Wright Limited Partnership.
20004453 | Health Care Service Corporation, a Mutual Legal Reserve Co | New Mexico Blue Cross and Blue Shield, Inc | HMO New Mexico, Inc.
|  |  | New Mexico Blue Cross and Blue Shield, Inc.
20004455 | Oak Investment Partners VIII, L.P | Xelus, Inc | Xelus, Inc.
20004461 | The Bear Sterns Companies Inc., BSCC Employee Fund III, LP | Manville Personal Injury Settlement Trust | Johns Manville Corporation.
20004462 | Bear Stearns Merchant Banking Partners II, L.P | Manville Personal Injury Settlement Trust | Johns Manville Corporation.
20004463 | HMTF Bridge Partners, L.P. or Hicks, Muse, Tate & Furst | Manville Personal Injury Settlement Trust | Johns Manville Corporation.
20004465 | Riverdeep Group, plc | International Business Machines Corporation | Edmark Corporation.
20004466 | International Business Machines Corporation | Riverdeep Group, plc | Riverdeep Group, plc
20004469 | InfoSpace, Inc | Go2Net, Inc. | Go2Net, Inc.
20004473 | ce Consumer Electronic AG | SND Electronics, Inc | SND Electronics, Inc.
20004474 | IDX Systems Corporation | Allscripts, Inc. | Allscripts Holding, Inc
20004475 | Allscripts, Inc. | IDX Systems Corporation | Channelhealth Incorporated.
20004476 | Prudential plc | AmSouth Bancorporation | IFC Holdings, Inc.
20004477 | Telelogic A. B | QSS, Inc | QSS, Inc.
20004479 | Paul G. Allen | InfoSpace, Inc | InfoSpace, Inc.
20004480 | Russell C. Horowitz | InfoSpace, Inc | InfoSpace, Inc.
20004481 | Chicago Bridge & Iron Company N.V | Mr. Issam M. Fares | Howe-Baker International, Inc.
20004482 | Issam M. Fares | Chicago Bridge & Iron Company N.V | Chicago Bridge & Iron Company N.V.
20004490 | SCI Systems, Inc | Koor Industries, Ltd | Telrad Networks Ltd.
20004491 | Grand Pacific Petrochemical Corp | Hyundai Electronics Industries Co., Ltd | MMC Technology, Inc.
20004493 | Donald M. Tribus | First Union Corporation | First Union Corporation.
20004497 | Debt Strategies Fund II, Inc | Debt Strategies Fund III, Inc | Debt Strategies Fund III, Inc.
20004499 | Debt Strategies Fund II, Inc | Debt Strategies Fund, Inc | Debt Strategies Fund, Inc.
20004524 | American International Group, Inc | DQE, Inc | Duquesne Energy, Inc.
20004532 | Madison Dearborn Capital Partners III, L.P | Jeffrey A. Wolfson | Pax Holding Corporation.
20004550 | Michael E. Heisley | WordPort Communications, Inc | WorldPort Communications, Inc.
Transactions Granted Early Termination—08/24/2000
20004252 | Veritas Capital Fund, L.P. (The) | Tech-Sym Corporation | Tech-Sym Corporation.
20004347 | Advance Paradigm, Inc | Rite Aid Corporation | PCS Holding Corporation.
20004375 | Cephalon, Inc | Anesta Corp | Anesta Corp.
20004381 | MediaNews Group, Inc | Kenneth R. Thomson | Thomson Holdings Inc.
20004439 | MDU Resources Group, Inc | Stephen J. Loosley | Roseburg Paving Company.
|  |  | Teeco Corporation.
20004440 | MDU Resources Group, Inc | Judy Sweeney | Roseburg Paving Company.
|  |  | Teeco Corporation.
20004500 | Lincolnshire Equity Fund II, L.P | Lincolnshire Equity Fund I, L.P | Visual Products Corp.
20004501 | Regal-Beloit Corporation | Leeson Electric Corporation | Leeson Electric Corporation.
20004502 | Prison Realty Trust, Inc | Corrections Corporation of America | Corrections Corporation of America.
20004505 | Reed International P.L.C | eCompanies LLC | Business.Com, Inc.
20004506 | Elsevier NV | eCompanies LLC | Business.Com, Inc.
20004507 | Centennial Communications Corp | Bell Atlantic Corporation d/b/a Verizon communications | Subsidiary Corporation.
20004508 | Hagemeyer N.V | Cameron & Barkley Company | Cameron & Barkley Company
20004510 | Pearson plc | eCompanies LLC | Business.Com, Inc.
20004511 | Allied Zurich p.l.c | Zurich Allied AG | Zurich Allied AG.
20004513 | Forest Oil Corporation | Forcenergy Inc | Forcenergy Inc.
20004517 | AXA | Sanford C. Bernstein Inc | Bernstein Technologies, Inc.
20004519 | Citigroup Inc | George Karfunkel | AST StockPlan, Inc.
20004520 | Citigroup Inc | Michael Karfunkel | AST StockPlan, Inc.
20004521 | Hong Kong Electric Holdings Limited | ScottishPower plc | Eastern Investment Company.
|  |  | Pan Pacific Global Corporation.
20004522 | Hutchison Whampoa Limited | ScottishPower plc | Eastern Investment Company.
|  |  | Pan Pacific Global Corporation.
20004525 | Overseas Partners Ltd | Reliance Group Holdings, Inc | Reliance Reinsurance Company.
20004528 | Illinois Tool Works Inc | Huhtamaki Van Leer Oyj | Van Leer Flexibles (Texas), Inc.
|  |  | Van Leer Flexibles LP.
|  |  | VLF Holding, Inc.
20004535 | The Boeing Company | M. Francois Pinault | Continental Graphics Holdings, Inc.
20004537 | Bank One Corporation | BISSELL, Inc | AbilityOne Corporation.
20004540 | TCV IV, L.P | CosmoCom, Inc | CosmoCom, Inc.
20004542 | Universal Compression Holdings, Inc | Reuben James Helton | Gas Compression Services, Inc.
20004543 | Interpool, Inc | Aegon N.V | Transamerica Leasing Inc.
Transactions Granted Early Termination—08/25/2000
20003983 | BP Amoco p.l.c | Aerie Networks, Inc | Aerie Networks, Inc.
20004147 | Richland Ventures II, L.P | Gabriel Communications, Inc | Gabriel Communications, Inc.
20004148 | Richland Ventures III, L.P | Gabriel Communications, Inc | Gabriel Communications, Inc.
20004153 | Steinway Musical Instruments, Inc | Bernhard Muskantor | United Musical Instruments Holdings, Inc.
20004322 | Intel Corporation | Newco | Newco.
20004368 | Westgate Equity Partners, L.P | Eagle OPG, Inc | Eagle OPG, Inc.
20004451 | MasTec, Inc | Floyd Flaire Ferrell, Jr | Flaire, Inc.
20004457 | Syncor International Corporation | US Diagnostic Inc | US Diagnostic, Inc.
20004478 | M.D. Sass Corporate Resurgence Partners, L.P | Seaman Furniture Company, Inc | Seaman Furniture Company, Inc.
20004489 | Kurt Abrahamson | Media Metrix, Inc | Media Metrix, Inc.
20004512 | Everett R. Dobson Irrevocable Family Trust | MJ Cellular, Inc | MJ Cellular, Inc.
20004529 | DDI Corporation | KDD Corporation | KDD America, Inc.
20004531 | Clear Channel Communications, Inc | Stephens Group, Inc | DR Partners.
20004533 | Mattson Technology, Inc | CFM Technologies, Inc | CFM Technologies, Inc.
20004536 | The Southern Company | The Southern Company | Southern Company Energy Marketing G.P., L.L.C.
|  |  | Southern Company Energy Marketing, L.P.
20004551 | Gene DeRose | Media Metrix, Inc | Media Metrix, Inc.
20004552 | Accel VIII L.P | Comstellar Technologies, Inc | Comstellar Technologies, Inc.
20004553 | New Enterprise Associates 9, Limited Partnership | Comstellar Technologies, Inc | Comstellar Technologies, Inc.
20004558 | GTCR Fund VII, L.P | InfoHighway Communications Corporation | InfoHighway Communications Corporation.
20004560 | Eltrax Systems, Inc | Cereus Technology Partners, Inc | Cereus Technology Partners, Inc.
20004564 | Marmon Holdings, Inc | Aegon, N.V | Trans Ocean Tank Services Corporation.
|  |  | Transamerica Leasing Inc.
20004570 | iBeam Broadcasting Corporation | NextVenue Inc | NextVenue Inc.
20004574 | Illinois Tool Works Inc | Hampshire Holographic Manufacturing Corporation | Hampshire Holographic Manufacturing Corporation.
20004602 | SC VIII Management, LLC | Yahoo! Inc | Yahoo! Inc.
Transactions Granted Early Termination—08/28/2000
20004270 | Intuit Inc | Princes Gate Investors II, L.P | Venture Finance Software Corp.
20004373 | The Williams Companies, Inc | Stanford N. Phelps | Wyatt Energy, Incorporated.
|  |  | Wyco New Haven, Inc.
|  |  | Wyn Corporation.
20004579 | Nortel Networks Corporation | Alteon WebSystems, Inc | Alteon WebSystems, Inc.
20004655 | MapleWood Equity Partners LP | HoldCo | HoldCo.
Transactions Granted Early Termination—08/30/2000
20000801 | Clear Channel Communications, Inc | AMFM Inc | AMFM Inc.
20001205 | Thomas O. Hicks | Clear Channel Communications, Inc | Clear Channel Communications, Inc.
20001208 | Hicks, Muse, Tate & Furst Equity Fund III, L.P | Clear Channel Communications, Inc | Clear Channel Communications, Inc.
20004297 | Colonial Pipe Line Company | BP Amoco p.l.c | BP Exploration & Oil Inc.
|  |  | BP Oil Pipeline Company.
20004447 | VantagePoint Venture Partners III (Q), L.P | Aerie Networks, Inc | Aerie Networks, Inc.
20004509 | Liberty Mutual Insurance Company | Wagner Asset Management, L.P | Wagner Asset Management, L.P.
20004514 | Martin J. Wygod | Healtheon/WebMD Corporation | Healtheon/WebMD Corporation.
20004515 | Michael A. Singer | Healtheon/WebMD Corporation | Healtheon/WebMD Corporation.
20004557 | Freedom Communications, Inc | Warburg, Pincus Capital Company, L.P | Journal Company, Inc., Journal Register Supply, Inc.
|  |  | Journal Company, Inc., Journal Register Supply, Inc.
20004559 | Western Wireless Corporation | Hickory Tech Corporation | Hickory Tech Corporation.
20004563 | IFCO Systems, N.V | Texas Pallet, L.P | Texas Pallet, L.P.
20004565 | Garfield Weston Charitable Foundation | Procter & Gamble Company, (The) | Procter & Gamble Company, (The).
20004566 | Broadcom Corporation | Silicon Spice Inc | Silicon Spice Inc.
20004567 | Mr. Vinod Dham | Broadcom Corporation | Broadcom Corporation.
20004573 | Cisco Systems, Inc | Cap Gemini, S.A | Cap Gemini, S.A.
20004583 | The Emerging Markets Infrastructure Fund, Inc | The Emerging Markets Telecommunications Fund, Inc | The Emerging Markets Telecommunications Fund, Inc.
20004584 | The Latin America Investment Fund, Inc | The Latin America Equity Fund, Inc | The Latin America Equity Fund, Inc.
20004590 | Citigroup Inc | Titan International, Inc | Titan International, Inc.
20004591 | Citigroup Inc | Delco Remy International, Inc | Delco Remy International, Inc.
20004596 | Wells Fargo & Company | General Electric Corporation | GE Capital Mortgage Services, Inc.
20004597 | Bain Capital Fund VII, L.P | Intira Corporation | Intira Corporation.
20004598 | Phone.com, Inc | Software.com, Inc | Software.com, Inc.
20004601 | John Menzies plc | Ogden Corporation | Ogden Asia Pacific Services, Inc.
|  |  | Ogden Aviation Service Company of Texas, Inc.
|  |  | Ogden Aviation Service Company of Washington, Inc.
|  |  | Ogden Aviation Services (Chile) Ltda.
|  |  | Ogden Aviation Services (Venezuela), S.A.
|  |  | Ogden Aviation Services Dominicana, S.A.
|  |  | Ogden Cargo Limited.
|  |  | Ogden Central and South America, Inc.
|  |  | Ogden Ground Services (Canada) Ltd.
|  |  | Ogden Ground Services de Mexico, S.A. de C.V.
|  |  | Ogden Ground Services, Inc.
|  |  | Ogden Holdings B.V.
|  |  | Ogden Peru, S.R.L.
|  |  | Ogden-Servicos de Atendimento Aeroterrestre Ltda.
|  |  | SEITSA Leasing, S.A. de C.V.
20004607 | Church & Dwight Co., Inc | USA Detergents, Inc | Armus, LLC.
|  |  | USA Detergents, Inc.
20004620 | United Rentals, Inc | Naru Investment Trust | Horizon High Reach, Inc.
20004623 | Brian L. Roberts | CAT Partnership | CAT Partnership.
20004625 | Time Warner Inc | Time Warner Inc | Time Warner Entertainment Company, L.P.
|  |  | Time Warner Entertainment-Advance/Newhouse.
20004629 | Internet Captial Group, Inc | inOvate Communications Group, Inc | inOvate Communications Group, Inc.
20004630 | Apollo Investment Fund IV, LP | Patrick Nolan | GTS Transportation Services, Inc.
20004631 | Apollo Investment Fund IV, LP | Jeffrey Roths | GTS Transportation Services, Inc.
20004641 | Lehman Brothers Holdings Inc | Societe Generale | SG Cowen Securities Corporation.
20004642 | Warburg, Pincus Equity Partners, L.P | Lucent Technologies Inc | Avaya, Inc.
20004643 | Fortis (B) | Service Corporation International | American Memorial Life Insurance Company.
20004644 | Fortis (NL) N.V | Service Corporation International | American Memorial Life Insurance Company.
20004651 | Zale Corporation | Piercing Pagoda, Inc | Piercing Pagoda, Inc.
20004652 | PETsMART, Inc | PETsMART.com, Inc | PETsMART.com, Inc.
20004658 | Chrion Corporation | PathoGenesis Corporation | PathoGenesis Corporation.
20004660 | JOMED N.V | EndoSonics Corporation | EndoSonics Corporation.
Transactions Granted Early Termination—08/31/2000
20004621 | Lancaster Colony Corporation | Patricia W. Barnes | Sister Schubert's Homemade Rolls, Inc.
Transactions Granted Early Termination—09/01/2000
20003182 | BAE Systems plc | Lockheed Martin Corporation | Lockheed Martin Corporation.
20003972 | Winn-Dixie Stores, Inc | Gooding's Supermarkets, Inc | Gooding's Supermarkets, Inc.
20004495 | Rentokil Initial plc | The ServiceMaster Company | TruGreen Limited Partnership.
20004562 | H.F. Johnson Distributing Trust of the Benefit of Samuel J | Charles & Jane Butcher | The Butcher Company.

For Further Information Contact: Sandra M. Peay or Parcellena P. Fielding, Contact Representatives, Federal Trade Commission Premerger Notification Office, Bureau of Competition, Room 303, Washington, DC 20580; (202) 326-3100.

By Direction of the Commission.
Donald S. Clark,
Secretary.

[FR Doc. 00-26342 Filed 10-12-00; 8:45 am]

BILLING CODE 6750-01-M